SECURITIES AND EXCHANGE COMMISSION

Proposed Collection; Comment Request

Upon Written Request, Copies Available From: Securities and Exchange Commission, Office of Filings and Information Services, Washington, DC 20549.

Extension: Rule 1(c) and Form U5S; SEC File No. 270-168; OMB Control No. 3235-0164.

Notice is hereby given that pursuant to the Paperwork Reduction Act of 1995 (44 U.S.C. 3501 et seq.) the Securities and Exchange Commission (“Commission”) is soliciting comments on the collections of information summarized below. The Commission plans to submit these existing collections of information to the Office of Management and Budget (“OMB”) for extension and approval.

Under rule 1(c) and section 14 of the Public Utility Holding Company Act of 1935 (“Act”), Form U5S must be filed annually by all registered holding companies. Form U5S contains broad ranging information such as a description of system companies, acquisitions and sales of utility assets, securities transactions, and other information necessary for the staff to ascertain compliance with the Act. The Commission estimates that the total annual reporting and recordkeeping burden is 445.5 (28 original annual responses plus 5 amendments × 13.5 hours = 445.5 burden hours). This represents an increase of 189 hours annually in the paperwork burden from the prior estimate, and this increase was caused by an increase in the number of registered holding companies over the period as well as the need for some registrants to make a subsequent amendment to the Form U5S due to the inadequacy of their original filing. The Commission needs the information because rule 1(c) requires it. The Commission uses this information to determine the existence of detriment to the interests the Act was designed to protect. Compliance with the requirements to provide the information is mandatory. The information will not be kept confidential.

The estimate of average burden hours is made solely for the purposes of the Paperwork Reduction Act. The estimate is not derived from a comprehensive or even a representative survey or study of the costs of Commission rules and forms.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 5th Street, NW., Washington, DC 20549.

Dated: January 7, 2004.
Margaret H. McFarland,
Deputy Secretary.

[FR Doc. 04-1077 Filed 1-16-04; 8:45 am]

BILLING CODE 8010-01-P